ENVIRONMENTAL PROTECTION AGENCY

[FRL-8522-8]

Notice of Public Workshop To Discuss Management of Underground Injection of Carbon Dioxide for Geologic Sequestration Under the Safe Drinking Water Act

AGENCY: Environmental Protection Agency.

ACTION: Notice.

SUMMARY: The Environmental Protection Agency (EPA) is holding a second public workshop to discuss the development of proposed regulations for the underground injection of carbon dioxide (CO2) for geologic sequestration under the Safe Drinking Water Act (SDWA). The SDWA requires EPA to protect underground sources of drinking water from contamination due to underground injection activities. The Underground Injection Control Program works with States and Tribes to oversee underground injection activities and prevent endangerment of drinking water sources. This public workshop will provide an opportunity for dialogue with representatives from industry, government, public interest groups, and the general public on geologic sequestration of carbon dioxide.

DATES: This public workshop will be held from 1 p.m. to 5:30 p.m., Eastern time, on Tuesday, February 26, 2008, and from 8:30 a.m. to 5 p.m. on Wednesday, February 27, 2008. To register for this workshop, please visit the following site: https://www.resolv.org/calendar/view_recurring_event.asp?CalendarID=10577. If you experience difficulties with the registration Web site, you may contact Kate Zimmer at RESOLVE at kzimmer@resolv.org. Please register by February 18, 2008. Also note that while this workshop is open to the public, space is limited due to room capacity restrictions. We encourage you to register to ensure participation.

ADDRESSES: The meetings will be held at the Crystal City Sheraton Hotel. The hotel is located at 1800 Jefferson Davis Highway in Arlington, VA, two blocks from the Crystal City Metro Station. The hotel's telephone number is (703) 486-1111.

FOR FURTHER INFORMATION CONTACT: For general information about these meetings, please contact Mary Rose (Molly) Bayer by phone at (202) 564-1981, by e-mail at bayer.maryrose@epa.gov, or by mail at: U.S. Environmental Protection Agency, Mail Code 4606M, 1200 Pennsylvania Ave., NW., Washington DC 20460. For information about EPA's Underground Injection Control Program & geologic sequestration activities visit the following Web site: http://www.epa.gov/safewater/uic/wells_sequestration.html.

SUPPLEMENTARY INFORMATION: The purpose of this workshop is to continue to advance the dialogue between EPA and stakeholders on geologic sequestration of CO2 under SDWA and to provide updates on the proposed rule making process. This workshop will also afford EPA an opportunity to seek feedback from stakeholders on a set of specific subjects identified as key areas of concern and interest to stakeholders, which were voiced during the first workshop (December 2007) and other EPA sponsored technical workshops, held from 2005 to present. These subjects may include, but are not limited to public participation, long term liability, site characterization/area of review (AoR), monitoring, and UIC well construction.

Special Accommodations

For information on access or services for individuals with disabilities, please contact Mary Rose (Molly) Bayer at (202) 564-1981 or bayer.maryrose@epa.gov. To request accommodation of a disability, please contact Mary Rose Bayer, preferably at least 10 days prior to the meeting, to give EPA as much time as possible to process your request.

Dated: January 24, 2008.
Cynthia C. Dougherty, Director
Director, Office of Ground Water and Drinking Water.

[FR Doc. 08-401 Filed 1-29-08; 8:45 am]

BILLING CODE 6560-50-M